COMMITTEE FOR THE IMPLEMENTATION OF TEXTILE AGREEMENTS

Solicitation of Public Comments Regarding Possible Safeguard Action on Imports from China of Cotton Knit shirts and Blouses

April 6, 2005.

AGENCY: The Committee for the Implementation of Textile Agreements (the Committee)

ACTION: Solicitation of public comments regarding possible safeguard action on imports from China of cotton knit shirts and blouses, Category 338/339.

SUMMARY: The Committee has decided, on its own initiative, to consider whether imports of Chinese origin cotton knit shirts and blouses, Category 338/339 are, due to market disruption, threatening to impede the orderly development of trade in these products. The Committee is soliciting public comments to assist it in considering this issue and in determining whether safeguard action is appropriate.

Comments may be submitted by any interested person. Comments must be received no later than May 9, 2005.

FOR FURTHER INFORMATION CONTACT: Jay Dowling, Office of Textiles and Apparel, U.S. Department of Commerce, (202) 482-4058.

SUPPLEMENTARY INFORMATION:

Authority: Section 204 of the Agriculture Act of 1956, as amended; Executive Order 11651, as amended.

BACKGROUND:

The Report of the Working Party on the Accession of China to the World Trade Organization (Accession Agreement) provides that, if a WTO Member, such as the United States, believes that imports of Chinese origin textile and apparel products are, “due to market disruption, threatening to impede the orderly development of trade in these products”, it may request consultations with China with a view to easing or avoiding the disruption. Pursuant to this provision, if the United States requests consultations with China, it must, in the context of this request, provide China with a detailed factual statement showing (1) the existence of market disruption; and (2) the role of products of Chinese origin in that disruption. Beginning on the date that it receives such a request, China must restrict its shipments to the United States to a level no greater than 7.5 percent (6 percent for wool product categories) above the amount entered during the first 12 months of the most recent 14 months preceding the request.

On April 4, 2005, the Committee decided, on its own initiative, to consider whether imports of Chinese origin cotton knit shirts and blouses, Category 338/339 are, due to the existence of market disruption, threatening to impede the orderly development of trade in these products. See 68 FR 27787, May 21, 2003; 68 FR 494440, August 18, 2003.

The Committee is soliciting public comments on this matter. It invites the public to provide information and analyses to assist the Committee in considering whether market disruption exists, and, if so, the role of imports from China in that disruption. Such information may include the following: recent and historical data regarding the U.S. market for cotton knit shirts and blouses (including import and U.S. production data); a description of how, if at all, Chinese origin cotton knit shirts and blouses have affected the domestic industry, such as the effects of imports from China on prices in the United States; and any other pertinent information. Any member of the public who provides information to the Committee should also indicate the sources from which information provided was obtained.

In providing comments, the public may wish to consider the following data which are available at website: http://otexa.ita.doc.gov:

Category 338/339, Cotton knit shirts and blouses (1,000 dozen)

Period | Imports from the World | Imports from China | China's Share of Imports (%)
2002 | 265,158 | 2,848 | 1.1
2003 | 309,038 | 2,602 | 0.8
2004 | 322,212 | 2,816 | 0.9
Year-to-date March 2004 | 83,663 | 518 | 0.6
Year-to-date March 2005 ¹ | 98,493 | 7,040 | 7.1
Year-ending March 2004 | 310,814 | 2,448 | 0.8
Year-ending March 2005 ¹ | 337,042 | 9,338 | 2.8
¹ Includes preliminary data for 2005.

For purposes of clarification, the Committee notes this is not a solicitation for comments regarding any possible “threat” of market disruption.

Comments may be submitted by any interested person. Comments must be received no later than May 9, 2005. Interested persons are invited to submit ten copies of such comments to the Chairman, Committee for the Implementation of Textile Agreements, Room 3100A, U.S. Department of Commerce, 14th and Constitution Avenue N.W., Washington, DC 20230.

The Committee will protect any business confidential information that is marked “business confidential” from disclosure to the full extent permitted by law. To the extent that business confidential information is provided, two copies of a non-confidential version must also be provided in which business confidential information is summarized or, if necessary, deleted. Comments received, with the exception of information marked “business confidential”, will be available for inspection between Monday - Friday, 8:30 a.m and 5:30 p.m in the Trade Reference and Assistance Center Help Desk, Suite 800M, USA Trade Information Center, Ronald Reagan Building, 1300 Pennsylvania Avenue, NW, Washington, DC, (202) 482-3433.

The Committee expects to make a determination within 60 calendar days of the close of the comment period as to whether the United States will request consultations with China. If, however, the Committee is unable to make a determination within 60 calendar days, it will cause to be published a notice in the Federal Register, including the date by which it will make a determination. If the Committee makes a negative determination, it will cause this determination and the reasons therefore to be published in the Federal Register. If the Committee makes an affirmative determination that imports of Chinese origin cotton knit shirts and blouses, Category 338/339 are, due to market disruption, threatening to impede the orderly development of trade in these products, the United States will request consultations with China with a view to easing such market disruption in accordance with the Accession Agreement and with the Committee's procedures.

James C. Leonard III,
Chairman, Committee for the Implementation of Textile Agreements.

[FR Doc. 05-7254 Filed 4-06-05; 2:34 pm]

BILLING CODE 3510-DS